ENVIRONMENTAL PROTECTION AGENCY

[ER-FRL-6251-4]

Environmental Impact Statements; Notice of Availability

Responsible Agency: Office of Federal Activities, General Information (202) 564-7167 OR www.epa.gov/oeca/ofa.

Weekly receipt of Environmental Impact Statements filed February 14, 2000 through February 18, 2000 pursuant to 40 CFR 1506.9.

EIS No. 000045, FINAL EIS, FHW, AZ, AZ-260 Transportation Improvements, between Payson and Heber, Funding, NPDES and COE Section 404 Permits, Gila, Coconino and Navajo Counties, AZ, Due: March 27, 2000, Contact: Nathan M. Banks (602) 379-3646.

EIS No. 000046, FINAL EIS, FHW, ND, Interstate 29 Reconstruction Project, Improvements from Rose Coulee to Cass County Road No. 20, Funding, City of Fargo, ND, Due: March 27, 2000, Contact: J. Michael Brown (701) 250-4204.

EIS No. 000047, DRAFT EIS, NPS, KY, TN, Big South Fork National River and Recreation Area, General Management Plan, Implementation, McCreary, KY and Fentress, Morgan, Pickett, Scott Counties, TN, Due: April 10, 2000, Contact: Reed Detring (423) 569-9778.

EIS No. 000048, FINAL EIS, BLM, CO, North Fork Coal Program, Approval of Two Lease-By-Applications (LBA) and Exploration License for Iron Point and Elk Creek Coal Leases, Delta and Gunnison Counties, CO, Due: March 27, 2000, Contact: Jerry Jones (970) 240-5338. The US Department of the Interior's Bureau of Land Management and Department of Agriculture's Forest Service are Joint Lead Agencies for this project.

EIS No. 000049, DRAFT EIS, AFS, MT, Mill-Key-Wey Project, Proposed Timber Harvesting, Ecosystem Burning, Road Construction and Reconstruction, Implementation, Lolo National Forest, Superior Ranger District, Mineral County, MT, Due: April 10, 2000, Contact: Tom Martin (406) 822-3961.

EIS No. 000050, FINAL EIS, FHW, MO, MO-19 Missouri River Replacement Bridge Project, Construction and Operation, US Coast Guard and COE Section 404 Permits, Gasconade and Montgomery Counties, MO, Due: March 31, 2000, Contact: Don Neumann (573) 636-7104.

EIS No. 000051, DRAFT EIS, FTA, OH, Bera/I-X Center Red Line Extension Project, Southwest Corridor Major Investment, Transit Improvements, Funding, Cuyahoga County, OH, Due: April 10, 2000, Contact: Carlos Pena (312) 353-2865.

Amended Notices

EIS No. 000042, DRAFT EIS, USN, CA, El Toro Marine Corps Air Station Disposal and Reuse, April 03, 2000, Contact: Robert Montana (619) 532-0942, Published -FR-02-18-2000. Correction to Comment date from 03-20-2000 to 04-03-2000. Correction to Contact Name and Telephone.

Dated: February 22, 2000.
Joseph C. Montgomery,
Environmental Protection Specialist, Office of Federal Activities.

[FR Doc. 00-4516 Filed 2-24-00; 8:45 am]

BILLING CODE 6560-50-P